DEPARTMENT OF THE INTERIOR

Bureau of Indian Affairs

Public Scoping Meeting on Congressionally Mandated Study of Energy Rights-of-Way on Tribal Lands

AGENCY: Office of Indian Energy and Economic Development, Department of the Interior; Office of Electricity Delivery and Energy Reliability, Department of Energy.

ACTION: Notice of Meeting.

SUMMARY: Section 1813 of the Energy Policy Act of 2005 (Pub. L. 109-58) requires the Secretary of the Interior and Secretary of Energy to jointly conduct a study of issues regarding energy rights-of-way on tribal land and provide a report to Congress on the findings of the study. The report is due to Congress by August 7, 2006. The Department of the Interior and the Department of Energy are interested in receiving comments from the public about how to proceed with the implementation of section 1813.

DATES: A 2-day meeting will be held on March 7 and 8, 2006, in Denver, Colorado, at the Adams Mark Hotel, 1550 Court Place, Denver, CO 80202; Telephone (303) 893-3333. A block of rooms has been reserved at the hotel for the meeting on a first-come first-served basis. Please inform the hotel that you are attending the “Energy Policy Act Section 1813 Nation-wide Scoping Meeting.”

ADDRESSES: Written comments should be sent by regular mail to Mr. Darryl Francois, Attention: Section 1813 ROW Study, Office of Indian Energy and Economic Development, 1849 C St., NW., Mail Stop 2749-MIB, Washington, DC 20240 or by e-mail to IEED@bia.edu. A duplicate copy of the comments should be sent to Mr. David Meyer, Office of Electricity Delivery and Energy Reliability, Department of Energy, 1000 Independence Avenue, SW., Washington, DC 20585.

FOR FURTHER INFORMATION CONTACT: Department of the Interior—Mr. Darryl Francois, Office of Indian Energy and Economic Development, 1849 C Street, NW., Mail Stop 2749-MIB, Washington, DC 20240. He can also be reached by telephone at (202) 219-0740 or by electronic mail at IEED@bia.edu.

Department of Energy—Ms. Janelle Schmidt, Office of Electricity Delivery and Energy Reliability, Department of Energy, 1000 Independence Avenue, SW., Washington, DC 20585. She can also be reached by telephone at (202) 586-6415 or by electronic mail at Janelle.Schmidt@hq.doe.gov.

SUPPLEMENTARY INFORMATION: Section 1813 of the Energy Policy Act of 2005 (Pub. L. 109-58) requires the Secretaries of the Department of the Interior and the Department of Energy (Departments) to conduct a study of energy related rights-of-way on tribal lands. The Act requires that the study address four subjects:

1. An analysis of historical rates of compensation;

2. Recommendations for appropriate standards to determine fair and appropriate compensation;

3. An assessment of tribal self-determination and sovereignty interests implicated by applications for energy rights-of-way on tribal land; and

4. An analysis of relevant national energy transportation policies.

The Departments will consider Tribal and interested party's comments in preparing a final report for delivery to Congress by August 7, 2006. A proposed work plan was presented for comment in the Federal Register on December 29, 2005 (70 FR 77178).

To help develop the report to Congress, the Departments will conduct a 2-day scoping and kick-off meeting on March 7 and 8, 2006. The Departments will solicit input on how to proceed with this work in a fair and timely manner. At this meeting, the Departments propose to establish several working groups to solicit and further develop information on each of these subjects. We propose to convene these working groups on the second day of the meeting and will solicit initial substantive comments on study issues at that time.

If a Tribe, group, or organization would like to be considered to make a formal presentation at the meeting, please send a written request that includes a subject topic by regular mail or e-mail to the addresses provided above by February 22, 2006.

Dated: February 3, 2006.
Michael D. Olsen,
Acting Principal Deputy Assistant Secretary—Indian Affairs.

[FR Doc. E6-1967 Filed 2-10-06; 8:45 am]

BILLING CODE 4310-96-P